DEPARTMENT OF COMMERCE

International Trade Administration

[A-533-808]

Certain Stainless Steel Wire Rods From India: Continuation of Antidumping Duty Order

AGENCY: Import Administration, International Trade Administration, Department of Commerce.

SUMMARY: As a result of the determinations by the Department of Commerce (the Department) and the International Trade Commission (ITC) that revocation of the antidumping duty order on certain stainless steel wire rods from India would likely lead to continuation or recurrence of dumping and material injury to an industry in the United States, the Department is publishing a notice of continuation of the antidumping duty order.

DATES: Effective Date: January 23, 2012.

FOR FURTHER INFORMATION CONTACT: Dustin Ross or Minoo Hatten, AD/CVD Operations, Office 1, Import Administration, International Trade Administration, U.S. Department of Commerce, 14th Street and Constitution Avenue NW., Washington, DC 20230; telephone: (202) 482-0747 or (202) 482-1690, respectively.

SUPPLEMENTARY INFORMATION:

Background

On July 1, 2011, the Department initiated and the ITC instituted sunset reviews of the antidumping duty order on certain stainless steel wire rods (“wire rods”) from India,¹ pursuant to section 751(c) of the Tariff Act of 1930, as amended (the Act). See Initiation of Five-Year (“Sunset”) Review, 76 FR 38613 (July 1, 2011); see also Stainless Steel Wire Rod From India; Institution of a Five-Year Review Concerning the Antidumping Duty Order on Stainless Steel Wire Rod From India, 76 FR 38686 (July 1, 2011).

¹ Antidumping Duty Order: Certain Stainless Steel Wire Rods from India, 58 FR 63335 (December 1, 1993).

As a result of this sunset review, the Department determined that revocation of the antidumping duty order on wire rods from India would be likely to lead to continuation or recurrence of dumping and notified the ITC of the magnitude of the margins likely to prevail should the order be revoked. See Certain Stainless Steel Wire Rods From India: Final Results of the Expedited Sunset Review of the Antidumping Duty Order, 76 FR 67672 (November 2, 2011).

On December 16, 2011, pursuant to section 752(a) of the Act, the ITC determined that revocation of the antidumping duty order on wire rods from India would be likely to lead to continuation or recurrence of material injury to an industry in the United States within a reasonably foreseeable time. See Stainless Steel Wire Rod From India, 77 FR 1504 (January 10, 2012), and ITC Publication entitled Stainless Steel Wire Rod from India: Investigation No. 731-TA-638 (Third Review) (January 2012).

Scope of the Order

The merchandise covered by the antidumping duty order is wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross-section. The majority of wire rods sold in the United States are round in cross-section shape, annealed, and pickled. The most common size is 5.5 millimeters in diameter.

The wire rods subject to this order are currently classifiable under subheadings 7221.00.0005, 7221.00.0015, 7221.00.0030, 7221.00.0045, and 7221.00.0075 of the Harmonized Tariff Schedule of the United States (HTSUS).² Although the HTSUS subheadings are provided for convenience and customs purposes, the written description of the merchandise subject to the order is dispositive.

² The merchandise subject to the scope of these orders was originally classifiable under all of the following HTS subheadings: 7221.00.0005, 7221.00.0015, 7221.00.0020, 7221.00.0030, 7221.00.0040, 7221.00.0045, 7221.00.0060, 7221.00.0075, and 7221.00.0080. HTSUS subheadings 7221.00.0020, 7221.00.0040, 7221.00.0060, 7221.00.0080 no longer exist.

Continuation of the Order

As a result of the determinations by the Department and the ITC that revocation of the antidumping duty order would likely lead to continuation or recurrence of dumping and material injury to an industry in the United States, pursuant to section 751(d)(2) of the Act, the Department hereby orders the continuation of the antidumping duty order on certain stainless steel wire rods from India.

U.S. Customs and Border Protection will continue to collect antidumping duty cash deposits at the rates in effect at the time of entry for all imports of subject merchandise. The effective date of continuation of this order will be the date of publication in the Federal Register of this notice of continuation. Pursuant to section 751(c)(6)(A) of the Act, the Department intends to initiate the next five-year review of the order not later than 30 days prior to the fifth anniversary of the effective date of continuation.

The five-year sunset review and this notice are in accordance with section 751(c) of the Act and published pursuant to section 777(i)(1) of the Act.

Dated: January 17, 2012.
Paul Piquado,
Assistant Secretary for Import Administration.

[FR Doc. 2012-1246 Filed 1-20-12; 8:45 am]

BILLING CODE 3510-DS-P